DEPARTMENT OF ENERGY

Federal Energy Regulatory Commission

Combined Notice of Filings #1

Take notice that the Commission received the following exempt wholesale generator filings:

Docket Numbers: EG26-118-000.

Applicants: Ostrea Solar, LLC.

Description: Ostrea Solar, LLC submits Notice of Self-Certification of Exempt Wholesale Generator Status.

Filed Date: 12/30/25.

Accession Number: 20251230-5057.

Comment Date: 5 p.m. ET 1/20/26.

Take notice that the Commission received the following electric rate filings:

Docket Numbers: ER10-2906-023; ER19-1716-011.

Applicants: Morgan Stanley Energy Structuring, L.L.C., Morgan Stanley Capital Group Inc.

Description: Triennial Market Power Analysis for Northwest Region of Morgan Stanley Capital Group Inc., et al. under ER10-2906, et al.

Filed Date: 12/29/25.

Accession Number: 20251229-5553.

Comment Date: 5 p.m. ET 2/27/26.

Docket Numbers: ER11-2557-006; ER11-2552-006; ER11-2555-005 ER11-2556-006; ER11-2558-007; ER25-2185-001.

Applicants: National Grid Generation LLC, Niagara Mohawk Power Corporation, National Grid Port Jefferson, National Grid Glenwood Energy Center LLC, Massachusetts Electric Company, New England Power Company.

Description: Triennial Market Power Analysis for Northeast Region of New England Power Company, et al.

Filed Date: 12/23/25.

Accession Number: 20251223-5432.

Comment Date: 5 p.m. ET 2/23/26.

Docket Numbers: ER18-1918-007.

Applicants: Kestrel Acquisition, LLC.

Description: Compliance filing: Hunterstown Generation, LLC submits tariff filing per 35: Compliance Filing of Tariff Records to Implement Settlement Rate to be effective 7/16/2024.

Filed Date: 12/30/25.

Accession Number: 20251230-5379.

Comment Date: 5 p.m. ET 1/20/26.

Docket Numbers: ER18-1918-008.

Applicants: Kestrel Acquisition, LLC.

Description: Compliance filing: Hunterstown Generation, LLC submits tariff filing per 35: Compliance Filing of Tariff Records to Implement Settlement Rate to be effective 1/1/2025.

Filed Date: 12/30/25.

Accession Number: 20251230-5384.

Comment Date: 5 p.m. ET 1/20/26.

Docket Numbers: ER25-27-001.

Applicants: Hunterstown Generation, LLC.

Description: Compliance filing: Compliance Filing of Tariff Records to Implement Settlement Rate to be effective 9/16/2024.

Filed Date: 12/30/25.

Accession Number: 20251230-5383.

Comment Date: 5 p.m. ET 1/20/26.

Docket Numbers: ER26-899-000.

Applicants: PJM Interconnection, L.L.C..

Description: § 205(d) Rate Filing: Revisions to OATT Sch. 12-Appendices re: 2026 RTEP Annual Cost Allocations to be effective 1/1/2024.

Filed Date: 12/29/25.

Accession Number: 20251229-5414.

Comment Date: 5 p.m. ET 1/20/26.

Docket Numbers: ER26-900-000.

Applicants: Daylight II, LLC.

Description: Initial Rate Filing: Facilities Use Agreement to be effective 2/28/2026.

Filed Date: 12/29/25.

Accession Number: 20251229-5416.

Comment Date: 5 p.m. ET 1/20/26.

Docket Numbers: ER26-901-000.

Applicants: Daylight II-A, LLC.

Description: Initial Rate Filing: Certificate of Concurrence of Facilities Use Agreement to be effective 2/28/2026.

Filed Date: 12/29/25.

Accession Number: 20251229-5436.

Comment Date: 5 p.m. ET 1/20/26.

Docket Numbers: ER26-901-001.

Applicants: Daylight II-A, LLC.

Description: Tariff Amendment: Amendment to Certificate of Concurrence to Facilities Use Agreement to be effective 2/28/2026.

Filed Date: 12/30/25.

Accession Number: 20251230-5357.

Comment Date: 5 p.m. ET 1/20/26.

Docket Numbers: ER26-902-000.

Applicants: EdSan 2 Solar Storage, LLC.

Description: Initial Rate Filing: Certificate of Concurrence to Facilities Use Agreement to be effective 2/28/2026.

Filed Date: 12/29/25.

Accession Number: 20251229-5438.

Comment Date: 5 p.m. ET 1/20/26.

Docket Numbers: ER26-902-001.

Applicants: EdSan 2 Solar Storage, LLC.

Description: Tariff Amendment: Amendment to Certificate of Concurrence to Facilities Use Agreement to be effective 2/28/2026.

Filed Date: 12/30/25.

Accession Number: 20251230-5373.

Comment Date: 5 p.m. ET 1/20/26.

Docket Numbers: ER26-903-000.

Applicants: Daylight III, LLC.

Description: Initial Rate Filing: Certificate of Concurrence of Facilities Use Agreement to be effective 2/28/2026.

Filed Date: 12/29/25.

Accession Number: 20251229-5440.

Comment Date: 5 p.m. ET 1/20/26.

Docket Numbers: ER26-903-001.

Applicants: Daylight III, LLC.

Description: Tariff Amendment: Amendment to Certificate of Concurrence to Facilities Use Agreement to be effective 2/28/2026.

Filed Date: 12/30/25.

Accession Number: 20251230-5366.

Comment Date: 5 p.m. ET 1/20/26.

Docket Numbers: ER26-904-000.

Applicants: Ostrea Solar, LLC.

Description: Initial Rate Filing: Market-Based Rate to be effective 1/9/2026.

Filed Date: 12/30/25.

Accession Number: 20251230-5002.

Comment Date: 5 p.m. ET 1/20/26.

Docket Numbers: ER26-905-000.

Applicants: American Transmission Systems, Incorporated.

Description: § 205(d) Rate Filing: ATSI submits Amended IA—SA No. 2853 to be effective 3/1/2026.

Filed Date: 12/30/25.

Accession Number: 20251230-5036.

Comment Date: 5 p.m. ET 1/20/26.

Docket Numbers: ER26-906-000.

Applicants: PJM Interconnection, L.L.C.

Description: § 205(d) Rate Filing: Amendment to ISA, Service Agreements No. 5823; Queue No. AC2-103 to be effective 3/1/2026.

Filed Date: 12/30/25.

Accession Number: 20251230-5080.

Comment Date: 5 p.m. ET 1/20/26.

Docket Numbers: ER26-907-000.

Applicants: Georgia Power Company.

Description: Initial rate filing: Twiggs-Georgia Power Shared Facilities Agreement Concurrence Filing to be effective 2/28/2026.

Filed Date: 12/30/25.

Accession Number: 20251230-5095.

Comment Date: 5 p.m. ET 1/20/26.

Docket Numbers: ER26-908-000.

Applicants: Entergy Arkansas, LLC.

Description: § 205(d) Rate Filing: Green and Clean Power, LLC LBA Agreement to be effective 1/1/2026.

Filed Date: 12/30/25.

Accession Number: 20251230-5129.

Comment Date: 5 p.m. ET 1/20/26.

Docket Numbers: ER26-910-000.

Applicants: Horizon West Transmission, LLC.

Description: § 205(d) Rate Filing: HWT 2026 Annual TRBAA Update to be effective 1/1/2026.

Filed Date: 12/30/25.

Accession Number: 20251230-5178.

Comment Date: 5 p.m. ET 1/20/26.

Docket Numbers: ER26-911-000.

Applicants: New York Independent System Operator, Inc.

Description: § 205(d) Rate Filing: LIPA 205: Revised Transmission Service Charges to be effective 1/1/2026.

Filed Date: 12/30/25.

Accession Number: 20251230-5208.

Comment Date: 5 p.m. ET 1/20/26.

Docket Numbers: ER26-912-000.

Applicants: ISO New England Inc., New England Power Pool Participants Committee.

Description: § 205(d) Rate Filing: ISO New England Inc. submits tariff filing per 35.13(a)(2)(iii: ISO-NE; Rev. to Establish a Prompt Capacity Market and Deactivation Framework to be effective 3/1/2026.

Filed Date: 12/30/25.

Accession Number: 20251230-5231.

Comment Date: 5 p.m. ET 1/20/26.

Docket Numbers: ER26-913-000.

Applicants: EdSan MV Holding Company C, LLC.

Description: § 205(d) Rate Filing: Facilities Use Agreement to be effective 3/1/2026.

Filed Date: 12/30/25.

Accession Number: 20251230-5236.

Comment Date: 5 p.m. ET 1/20/26.

Docket Numbers: ER26-914-000.

Applicants: Entergy Arkansas, LLC.

Description: § 205(d) Rate Filing: EAL-SWPA Transmission Interconnection and Operating Agreement to be effective 1/1/2026.

Filed Date: 12/30/25.

Accession Number: 20251230-5242.

Comment Date: 5 p.m. ET 1/20/26.

Docket Numbers: ER26-915-000.

Applicants: Collegiate Clean Energy, LLC.

Description: § 205(d) Rate Filing: Category 1 Status Filing to be effective 12/31/2025.

Filed Date: 12/30/25.

Accession Number: 20251230-5249.

Comment Date: 5 p.m. ET 1/20/26.

Docket Numbers: ER26-916-000.

Applicants: Emerald City Renewables LLC.

Description: § 205(d) Rate Filing: Category 1 Status Filing to be effective 12/31/2025.

Filed Date: 12/30/25.

Accession Number: 20251230-5250.

Comment Date: 5 p.m. ET 1/20/26.

Docket Numbers: ER26-917-000.

Applicants: Innovative Energy Systems, LLC.

Description: § 205(d) Rate Filing: Category 1 Status Filing to be effective 12/31/2025.

Filed Date: 12/30/25.

Accession Number: 20251230-5253.

Comment Date: 5 p.m. ET 1/20/26.

Docket Numbers: ER26-918-000.

Applicants: Essential Power Newington, LLC.

Description: § 205(d) Rate Filing: IROL-CIP Rate Schedule to be effective 3/1/2026.

Filed Date: 12/30/25.

Accession Number: 20251230-5254.

Comment Date: 5 p.m. ET 1/20/26.

Docket Numbers: ER26-919-000.

Applicants: EdSan 2 Solar Storage, LLC.

Description: § 205(d) Rate Filing: Certificate of Concurrence to Facilities Use Agreement to be effective 3/1/2026.

Filed Date: 12/30/25.

Accession Number: 20251230-5257.

Comment Date: 5 p.m. ET 1/20/26.

Docket Numbers: ER26-920-000.

Applicants: PJM Interconnection, L.L.C.

Description: Tariff Amendment: Notice of Cancellation of GIA SA No. 7406; Project Identifier No. AGI-301 to be effective 3/1/2026.

Filed Date: 12/30/25.

Accession Number: 20251230-5264.

Comment Date: 5 p.m. ET 1/20/26.

Docket Numbers: ER26-921-000.

Applicants: PJM Interconnection, L.L.C.

Description: § 205(d) Rate Filing: Amendment to GIA, SA No. 7399; AF2-233 to be effective 3/1/2026.

Filed Date: 12/30/25.

Accession Number: 20251230-5273.

Comment Date: 5 p.m. ET 1/20/26.

Docket Numbers: ER26-922-000.

Applicants: Consolidated Edison Company of New York, Inc.

Description: § 205(d) Rate Filing: 101 Vol Net Credit and CDG NRA to be effective 1/1/2026.

Filed Date: 12/30/25.

Accession Number: 20251230-5290.

Comment Date: 5 p.m. ET 1/20/26.

Docket Numbers: ER26-923-000.

Applicants: PJM Interconnection, L.L.C.

Description: § 205(d) Rate Filing: Original NSA Service Agreement No. 7803; Project identifier AE1-237 to be effective 3/1/2026.

Filed Date: 12/30/25.

Accession Number: 20251230-5376.

Comment Date: 5 p.m. ET 1/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 30, 2025.
Carlos D. Clay,
Deputy Secretary.

[FR Doc. 2025-24261 Filed 1-2-26; 8:45 am]

BILLING CODE 6717-01-P